DEPARTMENT OF COMMERCE

National Institute of Standards and Technology

Alternative Personnel Management System (APMS) at the National Institute of Standards and Technology

AGENCY: National Institute of Standards and Technology, Department of Commerce.

ACTION: Notice.

SUMMARY: This notice announces changes to the existing provisions of the National Institute of Standards and Technology's (NIST) Alternative Personnel Management System (APMS) published October 21, 1997 (62 FR 54604), and August 13, 2012 (77 FR 48128). NIST is modifying its current APMS direct-hire authority to include positions in the General Engineering, 801 series; General Physical Science, 1301 series; and Information Technology Management, 2210 series at the Pay Band III and above.

DATES: This notice is applicable on April 11, 2019.

FOR FURTHER INFORMATION CONTACT: Susanne Porch at the National Institute of Standards and Technology, (301) 975-2487 or Susanne.Porch@nist.gov.

SUPPLEMENTARY INFORMATION: In accordance with Public Law 99-574, the National Bureau of Standards Authorization Act for Fiscal Year 1987, the Office of Personnel Management (OPM) approved a demonstration project plan, “Alternative Personnel Management System (APMS) at the National Institute of Standards and Technology (NIST),” and published the plan in the Federal Register on October 2, 1987 (52 FR 37082). The published demonstration project plan was modified twice, once to clarify certain NIST authorities (54 FR 21331, May 17, 1989) and once to revise the performance appraisal system and the pay administration system in order to better link pay with performance (55 FR 39220, September 25, 1990). The APMS was made permanent in Section 10 of the National Technology Transfer and Advancement Act of 1995, Public Law 104-113, 110 Stat. 775 (Mar. 7, 1996) (codified at 15 U.S.C. 275 note), and the project plan and subsequent amendments were consolidated in the final APMS plan, which was published in the Federal Register on October 21, 1997 (62 FR 54604). NIST published eight subsequent amendments to the final APMS plan: one on May 6, 2005 (70 FR 23996), which became effective upon publication in the Federal Register; one on July 15, 2008 (73 FR 40500), which became effective on October 1, 2008; one on July 21, 2009 (74 FR 35841), which became effective upon publication in the Federal Register; one on January 5, 2011 (76 FR 539), which became effective upon publication in the Federal Register; one on June 19, 2012 (77 FR 36485), which became effective upon publication in the Federal Register; one on August 13, 2012 (77 FR 48128), which became effective upon publication in the Federal Register; one on August 24, 2012 (77 FR 51518), which became effective upon publication in the Federal Register; and one on September 24, 2015 (80 FR 57580), which became effective upon publication in the Federal Register. NIST also published a correction to the final APMS plan on July 21, 2009 (74 FR 35843), which became effective upon publication in the Federal Register.

On March 20, 2018, the Office of Management and Budget unveiled the fiscal year 2019 Presidential Management Agenda (PMA) outlining a long-term vision for modernizing the Federal government in key areas that would improve the ability of agencies to deliver mission outcomes, provide excellent service, and effectively steward taxpayer dollars on behalf of the American people. One aspect of the PMA highlights the government need to develop and manage the workforce of the 21st century by simplifying and expediting the hiring process for top talent.

The APMS plan provides for modifications to be made as experience is gained, results are analyzed, and conclusions are reached on how the system is working. This notice formally modifies the current APMS direct-hire authority to include positions in the General Engineering, 801 series; General Physical Science, 1301 series; and Information Technology Management, 2210 series at the Pay Band III and above. The expanded direct-hire authority will allow NIST to simplify and expedite hiring for managers in mission critical occupations, and, in accordance with the PMA, take a step towards building the workforce of the 21st century.

Kevin A. Kimball,
Chief of Staff.

Table of Contents

I. Executive Summary

II. Basis for APMS Plan Modification

III. Changes to the APMS Plan

I. Executive Summary

NIST is expanding its current APMS direct-hire authority to simplify and expedite hiring in mission critical occupations.

This amendment modifies the August 13, 2012 (77 FR 48128) amendment. Positions in the General Engineering, 801 series; General Physical Science, 1301 series; and Information Technology Management, 2210 series at the Pay Band III and above will be covered under the current NIST APMS direct-hire authority.

NIST will continually monitor the effectiveness of this amendment.

II. Basis for APMS Plan Modification

In August 2012, NIST published a Federal Register notice (77 FR 48128) which implemented direct-hire authority under 5 U.S.C. 3304(a)(3) on a permanent basis for the Nuclear Reactor Operation position in NIST's Scientific and Engineering Technician (ZT) career path at the Pay Band III and above, and for all positions in NIST's Scientific and Engineering (ZP) career path at the Pay Band III and above except for the Information Technology Management, 2210 series; the General Engineer, 801 series; and the General Physical Science, 1301 series. The modification in 2012 enabled NIST to hire, after public notice is given, any qualified applicant without regard to 5 U.S.C. 3309-3318, 5 CFR part 211, or 5 CFR part 337, subpart A. Based upon NIST's hiring needs and the PMA objective of simplifying and expediting hiring, NIST is expanding its current APMS direct-hire authority to include all positions in the Scientific and Engineering (ZP) career path at the Pay Band III and above.

NIST's APMS allows the NIST Director to modify procedures if no new waiver from law or regulation is added. Given this modification is in accordance with existing law and regulation, the NIST Director is authorized to make the changes described in this notice. The modification to our final Federal Register notice, dated October 21, 1997 (62 FR 54604), with respect to our Staffing authorities is provided below.

III. Changes in the APMS Plan

The APMS at NIST, published in the Federal Register on October 21, 1997 (62 FR 54604) is amended as follows:

The information under the subsection titled: “Direct Hire: Critical Shortage Occupations” is replaced with:

NIST uses direct-hire procedures for categories of occupations which require skills that are in short supply. All Nuclear Reactor Operator positions at the Pay Band III and above in the ZT Career Path constitute a shortage category, and all occupations at the Pay Band III and above in the ZP Career Path constitute a shortage category. Any positions in these categories may be filled through direct-hire procedures in accordance with 5 U.S.C. 3304(a)(3). NIST advertises the availability of job opportunities in direct-hire occupations by posting on the OPM USAJOBS website. NIST will follow internal direct-hire procedures for accepting applications and continue to provide consideration to eligible veteran preference applicants.

[FR Doc. 2019-07155 Filed 4-10-19; 8:45 am]

BILLING CODE 3510-13-P